DEPARTMENT OF AGRICULTURE

Forest Service

White Pine-Nye County Resource Advisory Committee (RAC)

AGENCY: Forest Service, USDA.

ACTION: Notice of meeting.

SUMMARY: The White Pine-Nye County Resource Advisory Committee (RAC) will hold a meeting.

DATES: The meeting will be held on March 2nd, 2011 and will begin at 9 a.m.

ADDRESSES: The meeting will be held in Eureka County at the Eureka Opera House, 31 S. Main Street, Eureka, Nevada 89316.

FOR FURTHER INFORMATION CONTACT: Jose Noriega, RAC Coordinator, USDA, Humboldt-Toiyabe National Forest, Ely Ranger District, 825 Avenue E Ely, NV 89301 (775) 289-3031; e-mail jnoriega@fs.fed.us.

SUPPLEMENTARY INFORMATION: Agenda items include: (1) Review and approve operating guidelines, (2) Review and approve meeting and business expenses, (3) Review and recommend funding allocation for proposed projects, (4) Determine timeframes for the next round of project proposals, (5) Public Comment. The meeting is open to the public. Public input opportunity will be provided and individuals will have the opportunity to address the Committee at that time.

Dated: January 18, 2011.
Steven Williams,
Designated Federal Official.

[FR Doc. 2011-3283 Filed 2-11-11; 8:45 am]

BILLING CODE 3410-11-P